DEPARTMENT OF ENERGY

Federal Energy Regulatory Commission

Combined Notice of Filings #1

Take notice that the Commission received the following electric corporate filings:

Docket Numbers: EC16-40-000

Applicants: Marina Energy, LLC.

Description: Supplement to November 25, 2015 Application for Authorization Under Section 203 of the Federal Power Act of Marina Energy, LLC.

Filed Date: 12/11/15.

Accession Number: 20151211-5163.

Comments Due: 5 p.m. ET 12/4/16.

Docket Numbers: EC16-51-000.

Applicants: Roosevelt Wind Project, LLC, Milo Wind Project, LLC, RPG Finale Investco, LLC.

Description: Application for Authorization for Disposition of Jurisdictional Facilities, Requests for Confidential Treatment, Expedited Action and Certain Waivers of Roosevelt Wind Project, LLC, Milo Wind Project, LLC and RPG Finale Investco, LLC.

Filed Date: 12/11/15.

Accession Number: 20151211-5237.

Comments Due: 5 p.m. ET 1/4/16.

Take notice that the Commission received the following electric rate filings:

Docket Numbers: ER16-72-000.

Applicants: San Gorgonio Westwinds II—Windustries, LLC.

Description: Second Supplement to October 14, 2015 San Gorgonio Westwinds II—Windustries, LLC tariff filing.

Filed Date: 12/9/15.

Accession Number: 20151209-5078.

Comments Due: 5 p.m. ET 12/30/15.

Docket Numbers: ER16-182-000.

Applicants: Cameron Ridge II, LLC.

Description: Supplement to October 30, 2015 Cameron Ridge II, LLC tariff filing.

Filed Date: 12/11/15.

Accession Number: 20151211-5165.

Comments Due: 5 p.m. ET 1/4/16.

Docket Numbers: ER16-328-001.

Applicants: Cogentrix Virginia Financing Holding Company, LLC.

Description: Tariff Amendment: Supplement to MBR Application to be effective 1/12/2016.

Filed Date: 12/14/15.

Accession Number: 20151214-5078.

Comments Due: 5 p.m. ET 1/4/16.

Docket Numbers: ER16-371-000.

Applicants: BioUrja Power, LLC.

Description: Clarification to November 20, 2015 BioUrja Power, LLC tariff filing.

Filed Date: 12/11/15.

Accession Number: 20151211-5270.

Comments Due: 5 p.m. ET 1/4/16.

Docket Numbers: ER16-454-000.

Applicants: Seward Generation, LLC.

Description: Amendment to December 3, 2015 Seward Generation, LLC tariff filing.

Filed Date: 12/11/15.

Accession Number: 20151211-5059.

Comments Due: 5 p.m. ET 1/4/16.

Docket Numbers: ER16-512-000.

Applicants: Public Service Company of Colorado.

Description: Compliance filing: 2015-12-14_Att O-SPS Global Stlmnt Filing to be effective 10/20/2014.

Filed Date: 12/14/15.

Accession Number: 20151214-5103.

Comments Due: 5 p.m. ET 1/4/16.

Docket Numbers: ER16-513-000.

Applicants: Gulf Oil Limited Partnership.

Description: Tariff Cancellation: notice of cancellation to be effective 12/15/2015.

Filed Date: 12/14/15.

Accession Number: 20151214-5118.

Comments Due: 5 p.m. ET 1/4/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 14, 2015.
Nathaniel J. Davis, Sr.,
Deputy Secretary.

[FR Doc. 2015-31962 Filed 12-18-15; 8:45 am]

BILLING CODE 6717-01-P